DEPARTMENT OF ENERGY

Agency Information Collection Extension; Correction

AGENCY: Department of Energy.

ACTION: Submission for Office of Management and Budget (OMB) review; comment request; correction.

SUMMARY: The Department of Energy published a document in the Federal Register of September 18, 2008, announcing the submission of an information request to the OMB for extension under the provisions of the Paperwork Reduction Act of 1995. The document contained an incorrect OMB Control Number.

FOR FURTHER INFORMATION CONTACT: Kathleen M. Binder, Director, Office of Conflict Prevention and Resolution, GC-12, U.S. Department of Energy, 1000 Independence Avenue, SW., Washington, DC 20585.

Correction

In the Federal Register of September 18, 2008, in FR Doc. E8-21823, on page 54154, please make the following corrections:

On page 54154 under the heading SUMMARY the OMB Control Number is 1910-5118. Also on page 54154, under the heading SUPPLEMENTARY INFORMATION, the OMB No. should be 1910-5118.

Issued in Washington, DC on September 19, 2008.
Kathleen M. Binder,
Director, Office of Conflict Prevention and Resolution, Office of General Counsel.

[FR Doc. E8-22564 Filed 9-24-08; 8:45 am]

BILLING CODE 6450-01-P